ENVIRONMENTAL PROTECTION AGENCY

40 CFR Part 52

Approval and Promulgation of Implementation Plans

CFR Correction

This rule is being published by the Office of the Federal Register to correct an editorial or technical error that appeared in the most recent annual revision of the Code of Federal Regulations.

In Title 40 of the Code of Federal Regulations, part 52 (§ 52.2020 to the end of part 52), revised as of July 1, 2022, in § 52.2275, remove the first paragraph (m).

[FR Doc. 2023-03689 Filed 2-22-23; 8:45 am]

BILLING CODE 0099-10-P